DEPARTMENT OF LABOR

Office of the Secretary

Submission for OMB Review; Comment Request

August 19, 2003.

The Department of Labor (DOL) has submitted the following public information collection request (ICR) to the Office of Management and Budget (OMB) for review and approval in accordance with the Paperwork Reduction Act of 1995 (Pub. L. 104-13, 44 U.S.C. chapter 35). A copy of this ICR, with applicable supporting documentation, may be obtained by calling the Department of Labor. To obtain documentation contact Darrin King on (202) 693-4129 (this is not a toll-free number) or e-mail: king.darrin@dol.gov.

Comments should be sent to Office of Information and Regulatory Affairs, Attn: OMB Desk Officer for the Employment and Training Administration (ETA), Office of Management and Budget, Room 10235, Washington, DC 20503 (202-395-7316/this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment and Training Administration.

Type of Review: Reinstatement, with change, of a previously approved collection for which approval has expired.

Title: Youth Employment Survey.

OMB Number: 1205-0373.

Affected Public: Individuals or households.

Type of Response: Reporting.

Frequency: One time.

Number of Respondents: 169,152.

Information collection activity | Number of responses | Average response time (hours) | Annual burden hours
Screener Interview | 147,814 | 0.08 | 12,318
Questionnaire | 21,338 | 0.25 | 5,335
Total | 169,152 |  | 17,653

Total Annualized Capital/Startup Costs: $0.

Total Annual Costs (operating/maintaining systems or purchasing services): $0.

Description: The U.S. Department of Labor's Employment and Training Administration is seeking OMB approval to reinstate with modifications the Youth Employment Survey (YES). Follow-up data from this survey are needed to complete the evaluation of the Youth Opportunity (YO) Grants. Specifically, follow-up data from the YES will be used to estimate the change in the employment and educational attainment levels of youth residing in the 36 YO areas.

Ira L. Mills,
Departmental Clearance Officer.

[FR Doc. 03-22123 Filed 8-28-03; 8:45 am]

BILLING CODE 4510-30-M